ENVIRONMENTAL PROTECTION AGENCY

[FRL-8751-1]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

Correction to Previous Action

EPA ICR Number 2097.03; The National Primary Drinking Water Regulations; Long Term 2 Enhanced Surface Water Treatment Rule; OMB Number 2040-0266; on 10/31/2008, OMB corrected a previous Disapproval of this ICR. The ICR is approved through 12/31/2008.

OMB Approvals

EPA ICR Number 1977.03; National Wastewater Operator Training and Technical Assistance Program—Clean Water Act 104(g)(1) (Renewal); in 40 CFR part 45; was approved 11/21/2008; OMB Number 2040-0238; expires 11/30/2011.

EPA ICR Number 1759.05; Pesticide Worker Protection Standard Training and Notification; in 40 CFR part 170; was approved 11/25/2008; OMB Number 2070-0148; expires 11/30/2011.

EPA ICR Number 1985.04; NESHAP for Leather Finishing Operations (Renewal); in 40 CFR part 63, subpart TTTT; was approved 11/28/2008; OMB Number 2060-0478; expires 11/30/2011.

EPA ICR Number 1850.05; NESHAP for Primary Cooper Smelters (Renewal); in 40 CFR part 63, subpart QQQ; was approved 11/28/2008; OMB Number 2060-0476; expires 11/30/2011.

EPA ICR Number 2025.04; NESHAP for Friction Materials Manufacturing (Renewal); in 40 CFR part 63, subpart QQQQQ; was approved 11/28/2008; OMB Number 2060-0481; expires 11/30/2011.

EPA ICR Number 2066.04; NESHAP for Engine Test Cells/Stands (Renewal); in 40 CFR part 63, subpart PPPPP; was approved 11/28/2008; OMB Number 2060-0481; expires 11/30/2011.

EPA ICR Number 1750.05; National Volatile Organic Compound Emission Standards for Architectural Coatings (Renewal); in 40 CFR part 59, subpart D; was approved 12/02/2008; OMB Number 2060-0393; expires 12/31/2011.

EPA ICR Number 1896.08; Disinfectants/Disinifection Byproducts, Chemical and Radionuclides (Renewal); in 40 CFR parts 141 and 142; was approved 12/04/2008; OMB Number 2040-0204; expires 12/31/2011.

OMB Comments Filed

EPA ICR Number 1989.05; Revised National Pollutant Discharge Elimination System Permit Regulations for Concentrated Animal Feeding Operations (SNPRM); on 11/19/2008 OMB filed comment.

EPA ICR Number 2279.01; Aircraft Drinking Water (Proposed Rule); on 11/20/2008 OMB filed comment.

Withdrawn from OMB

EPA ICR Number 2255.01; Performance Measurement Reporting for Training and Education/Outreach; was withdrawn from OMB review on 12/03/2008.

Dated: December 8, 2008.
John Moses,
Acting Director, Collection Strategies Division.

[FR Doc. E8-29479 Filed 12-11-08; 8:45 am]

BILLING CODE 6560-50-P